DEPARTMENT OF LABOR

Office of Disability Employment Policy

Agency Information Collection Activities; Comment Request; Job Accommodation Network Customer Satisfaction Questionnaire

ACTION: Notice of information collections and request for comments.

SUMMARY: In compliance with the Paperwork Reduction Act of 1995, the DOL is soliciting public comments regarding this ODEP-sponsored information collection to the Office of Management and Budget (OMB) for review and approval.

DATES: Comments pertaining to this information collection are due on or before October 18, 2021.

ADDRESSES: Electronic submission: You may submit comments and attachments electronically at http://www.regulations.gov. Follow the online instructions for submitting comments.

Mail submission: 200 Constitution Ave. NW, Room S-5315, Washington, DC 20210. Comments are invited on: (1) Whether the collection of information is necessary for the proper performance of the functions of the DOL, including whether the information will have practical utility; (2) if the information will be processed and used in a timely manner; (3) the accuracy of the DOL's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Betsy Kravitz by telephone at 202-693-7860 (this is not a toll-free number) or by email at DOL_PRA_PUBLIC@dol.gov.

SUPPLEMENTARY INFORMATION: The Job Accommodation Network (JAN) is a leading source of guidance on job accommodations and disability employment issues and has served customers for more than 35 years. JAN provides free one-on-one practical guidance and technical assistance on job accommodation solutions, Title I of the Americans with Disabilities Act (ADA) and related legislation, and self-employment and entrepreneurship options for people with disabilities. JAN provides individualized consultation to assist:

• Employers and their representatives seeking guidance on practical ways to engage in the interactive process, provide job accommodation solutions, and comply with Title I of the ADA;

• Individuals with medical conditions and disabilities seeking information about job accommodation solutions, employment rights under the ADA, and self-employment and entrepreneurship opportunities; and

• Family members and rehabilitation, medical, educational, and other professionals in their effort to support successful employment outcomes for individuals with medical conditions and disabilities.

JAN customers (employer representatives, service providers, and individuals with disabilities) who contact JAN via phone calls, email, and internet chats and who have inquiries related to workplace accommodation or self-employment issues will be asked to participate in the Customer Satisfaction Questionnaire, which is sent via email. The initial email requesting participation includes the Informed Consent script used by both JAN and the West Virginia University School of Social Work. Informed consent specifies that the purpose is to evaluate JAN's services and to identify ways in which services can be improved to assist clients. Potential participants also will be informed that their decision to either participate or refuse to participate will in no way impact their ability to use JAN's services in the future. Following the link to complete the questionnaire is considered consent. Customers can also opt out of further contacts or choose to contact the evaluator directly if there are questions or concerns. The statement has been approved by the West Virginia University Internal Review Board. The questionnaire requests demographic information, accommodation process details and costs, and general satisfaction items. Respondents can choose to answer or skip each item.

This information collection is subject to the Paperwork Reduction Act (PRA). A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

The DOL seeks PRA authorization for this information collection for three (3) years. OMB authorization for an Information Collection Review cannot be for more than three (3) years without renewal. The DOL notes that currently approved information collection requirements submitted to the OMB receive a month-to-month extension while they undergo review.

Agency: DOL-ODEP.

Type of Review: New information collection.

Title of Collection: Job Accommodation Network (JAN) Customer Satisfaction Questionnaire.

OMB Control Number: 1230-0NEW.

Affected Public: Individuals or Households.

Total Estimated Number of Respondents: 1,680.

Frequency: Once per customer every 6 months.

Total Estimated Number of Responses: 1,680.

Total Estimated Annual Time Burden: 420 hours.

Total Estimated Annual Other Costs Burden: $0.

Authority: 44 U.S.C. 3506(c)(2)(A).

Dated: August 12, 2021.
Jennifer Sheehy,
Deputy Assistant Secretary, Office of Disability Employment Policy.

[FR Doc. 2021-17787 Filed 8-18-21; 8:45 am]

BILLING CODE 4510-FK-P